DEPARTMENT OF DEFENSE

Office of the Secretary

Threat Reduction Advisory Committee; Notice of Closed Federal Advisory Committee Meeting

AGENCY: Office of the Under Secretary of Defense (Acquisition, Technology, and Logistics), Department of Defense (DoD).

ACTION: Federal advisory committee meeting notice.

SUMMARY: The Department of Defense announces the following closed Federal advisory committee meeting of the Threat Reduction Advisory Committee (TRAC).

DATES: Wednesday, November 16, 2016, from 8:30 a.m. to 4:30 p.m. and Thursday, November 17, 2016, from 8:30 a.m. to 2:30 p.m.

ADDRESSES: United States Special Operation Command (USSOCOM) in Tampa, FL on both days.

FOR FURTHER INFORMATION CONTACT: Mr. William Hostyn, DoD, Defense Threat Reduction Agency (DTRA) J2/5/AC, 8725 John J. Kingman Road, MS 6201, Fort Belvoir, VA 22060-6201. Email: william.p.hostyn.civ@mail.mil. Phone: (703) 767-4453. Fax: (703) 767-4206.

SUPPLEMENTARY INFORMATION: Purpose of Meeting: This meeting is being held under the provisions of the Federal Advisory Committee Act of 1972 (FACA) (5 U.S.C., Appendix, as amended), the Government in the Sunshine Act of 1976 (5 U.S.C. 552b, as amended), and 41 CFR 102-3.150. The TRAC will obtain, review, and evaluate classified information related to the TRAC's mission to provide advice on technology security, combating weapons of mass destruction (CWMD), counterterrorism, and counterproliferation.

Agenda: All discussions for the two-day meeting will be classified at the secret level or higher. On Wednesday, November 16, the TRAC plenary session will open with welcoming remarks by four individuals. Mr. Steve Polchek, Designated Federal Officer, will cover security procedures and administrative details; LtGen Joseph L. Osterman, Deputy Commander, USSOCOM, will welcome the TRAC members; Dr. Arthur Hopkins, Principal Deputy, Performing the Duties of the Assistant Secretary of Defense for Nuclear, Chemical and Biological (NCB) Defense Programs, will provide remarks on NCB's vision for the Unified Command Plan (UCP) changes and the DoD CWMD mission; and Ambassador (AMB) Ronald Lehman, TRAC Chair, opens the meeting with an outline of the two-day session. Following the opening remarks, the Honorable (HON) Michael Nacht and Ms. Eileen Vergino will provide an update on CWMD in North Korea; HON Joseph Benkert will update the group on the progress of the study on Chinese Weapons of Mass Destruction (WMD) operations; and HON Susan Koch will then provide a progress report and preliminary findings on Russian Strategy and Force Development. Following the working lunch, the TRAC-only session will commence to review existing and new taskings. AMB Lehman and Dr. Miriam John, TRAC Vice-Chair, will lead a discussion on the new tasks received from the Under Secretary of Defense for Acquisition, Technology, and Logistics: modernization of strategic nuclear forces and implementation guidance for the 2016 UCP transfer of the CWMD mission from United States Strategic Command to USSOCOM. The TRAC will then deliberate the findings and recommendations of the Russian Strategy and Force Development study. All participants will attend the visitation to the USSOCOM War Game Center for a walk-through and demonstration scenario.

The TRAC will continue meeting on Thursday, November 17, 2016. USSOCOM will provide intelligence briefings on the overlap of special operations and CWMD activities in the Western Pacific area of responsibility. USSOCOM representatives will then deliver a command brief, including an outline of USSOCOM's strategic direction in regards to CWMD, which will highlight potential avenues of coordination with the preexisting CWMD infrastructure. USSOCOM's Directorate of Plans will then give a more detailed picture of the UCP CWMD transition over a working lunch. Following the working lunch, AMB Lehman and LtGen Osterman will lead a group discussion on synergies between the Department of Defense's CWMD mission and USSOCOM. At the conclusion of the discussion, the Chair will adjourn the 39th Plenary.

Meeting Accessibility: Pursuant to section 10(d) of the FACA, 5 U.S.C. 552b(c), and 41 CFR 102-3.155, the DoD has determined that the meeting shall be closed to the public. The Under Secretary of Defense for Acquisition, Technology, and Logistics, in consultation with the DoD FACA Attorney, has determined in writing that all sessions of this meeting are required to be closed to the public because the discussions will contain classified information and matters covered by 5 U.S.C. 552b(c)(1). Such classified matters are inextricably intertwined with the unclassified material and cannot reasonably be segregated into separate discussions without disclosing secret-level or higher material.

Advisory Committee's Designated Federal Officer or Point of Contact: Mr. William Hostyn, DoD, Defense Threat Reduction Agency, J2/5/AC, 8725 John J. Kingman Road, MS 6201, Fort Belvoir, VA 22060-6201. Email: william.p.hostyn.civ@mail.mil. Phone: (703) 767-4453. Fax: (703) 767-4206.

Written Statements: Pursuant to section 10(a)(3) of FACA and 41 CFR 102-3.105(j) and 102-3.140, the public or interested organizations may submit written statements to the membership of the TRAC at any time or in response to the stated agenda of a planned meeting. Written statements should be submitted to the TRAC's Designated Federal Officer. The Designated Federal Officer's contact information is listed in this notice, or it can be obtained from the General Services Administration's FACA Database: http://www.facadatabase.gov/committee/committee.aspx?cid=1663&aid=41. Written statements that do not pertain to a scheduled meeting of the TRAC may be submitted at any time. However, if individual comments pertain to a specific topic being discussed at a planned meeting, then these statements must be submitted no later than five business days prior to the meeting in question. The Designated Federal Officer will review all submitted written statements and provide copies to all TRAC members.

Dated: October 27, 2016.
Aaron Siegel,
Alternate OSD Federal Register Liaison Officer, Department of Defense.

[FR Doc. 2016-26378 Filed 10-31-16; 8:45 am]

BILLING CODE 5001-06-P